SMALL BUSINESS ADMINISTRATION

[Declaration of Disaster #P046]

State of New York

As a result of the President's major disaster declaration for Public Assistance on August 3, 2004 the U.S. Small Business Administration is activating its disaster loan program only for private non-profit organizations that provide essential services of a governmental nature. I find that Allegany, Cattaraugus, Chautauqua, Delaware, Erie, Herkimer, Ontario, Saratoga, Schoharie, Steuben, Ulster, Washington, and Yates Counties in the State of New York constitute a disaster area due to damages caused by severe storms and flooding occurring on May 13, 2004 and continuing through June 17, 2004. Applications for loans for physical damage as a result of this disaster may be filed until the close of business on October 4, 2004 at the address listed below or other locally announced locations: U.S. Small Business Administration, Disaster Area 1 Office, 360 Rainbow Blvd., South, 3rd Floor, Niagara Falls, NY 14303.

The interest rates are:

| Percent
For Physical Damage:
Non-Profit Organizations without Credit Available Elsewhere | 2.750
Non-Profit Organizations with Credit Available Elsewhere | 4.875

The number assigned to this disaster for physical damage is P04606.

(Catalog of Federal Domestic Assistance Program Nos. 59008)
Dated: August 9, 2004.
Herbert L. Mitchell,
Associate Administrator for Disaster Assistance.

[FR Doc. 04-18878 Filed 8-17-04; 8:45 am]

BILLING CODE 8025-01-P